DEPARTMENT OF COMMERCE

U.S. Census Bureau

[OMB Control Number: 0607-1007]

Proposed Change to Existing Approved Collection; Comment Request; 2020 Census New Construction Program; Expiration Date: 12-31-2021

AGENCY: U.S. Census Bureau.

ACTION: Notice of schedule change.

SUMMARY: This document constitutes a notice of intent to provide a 30-day comment period on schedule changes to the approved information collection for the 2020 Census New Construction Program. The Department of Commerce, as part of its continuing effort to reduce paperwork and respondent burden, invites the general public and other Federal agencies to take this opportunity to comment on proposed and/or continuing information collections, as required by the Paperwork Reduction Act of 1995.

SUPPLEMENTARY INFORMATION: The U.S. Census Bureau is issuing this notice to inform the public of two schedule changes associated with the notice for public comment, titled “2020 Census New Construction Program,” published in the Federal Register on October 5, 2018 (Vol. 83, No. 194, pp. 50332-50334).

The following highlights the proposed revisions and the reasons:

1. Publication of the list of governments eligible for participation in the New Construction Program by fall 2018 (p. 50333): The Census Bureau will publish the list of governments eligible for participation in the New Construction Program in early 2019, instead of fall 2018. The Census Bureau made the change to conduct additional quality control prior to publishing the list. This change does not affect the respondents who are eligible to participate in the New Construction Program.

2. Registration Deadline—Invitation Phase (p. 50334): The Census Bureau is rescheduling the registration deadline from what was previously stated in the Federal Register on October 5, 2018 (Vol. 83, No. 194, pp. 50332-50334). The registration deadline was moved from July 19, 2019 to June 14, 2019 to provide the Census Bureau adequate time to conduct quality control of the registered universe and to prepare materials prior to the participation phase in September 2019. During the first week of April 2019, the Census Bureau will invite respondents to register online or by mail, with registration responses due by June 14, 2019. Given the average response time per respondent of one hour for the invitation phase, the proposed change is not anticipated to have an impact on a respondent's ability to reply during the proposed time frame.

There are no other proposed changes to the 2020 Census New Construction Program.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead Officer, Office of the Chief Information Officer, Department of Commerce.

[FR Doc. 2019-00524 Filed 1-30-19; 8:45 am]

BILLING CODE 3510-07-P